DEPARTMENT OF AGRICULTURE

Forest Service

Eastern Idaho Resource Advisory Committee; Caribou-Targhee National Forest, Idaho Falls, Idaho

AGENCY: Forest Service, USDA.

ACTION: Notice of meeting.

SUMMARY: Pursuant to the authorities in the Federal Advisory Committee Act (Pub. L. 92-463) and under the Secure Rural Schools and Community Self-Determination Act of 2000 (Pub. L. 106-393) the Caribou-Targhee National Forests' Eastern Idaho Resource Advisory Committee will meet Monday, March 11, 2002, in Idaho Falls for a business meeting. The meeting is open to the public.

DATES: The business meeting will be held on March 11, 2002, from 10 a.m. to 3 p.m.

ADDRESSES: The meeting location is the Hampton Inn, 2500 Channing Way, Idaho Falls, Idaho 83402.

FOR FURTHER INFORMATION CONTACT: Jerry Reese, Caribou-Targhee National Forest Supervisor and Designated Federal Officer, at (208) 524-7500.

SUPPLEMENTARY INFORMATION: The business meeting on March 11, 2002, begins at 10 am, at the Hampton Inn, 2500 Channing Way, Idaho Falls, Idaho. Agenda topics will include FACA overview, project application form, project solicitation.

Dated: February 15, 2002.
Jerry B. Reese,
Caribou-Targhee Forest Supervisor.

The Eastern Idaho Resource Advisory Council (RAC) will hold its second meeting March 11, 2002 to finalize the application form and determine how to solicit projects totaling $70,000. The Eastern Idaho RAC covers those counties in which the Caribou-Targhee National Forest lies. RAC members will formulate recommendations for National Forest Restoration Projects. The recommendations will then be forwarded to the Secretary of Agriculture or the Designated Federal Officer to start the approval process. The Eastern Idaho RAC is one of five statewide, established with the passage of the Secure Rural Schools and Community Self-Determination Act of 2002. The Act gives counties the option of continuing to receive 25 percent of the revenue generated from activities on National Forests such as timber harvest, grazing, and mining, or electing their share of the average of the three highest 25 percent payments made top the state from 1986 through 1999.

[FR Doc. 02-4316 Filed 2-21-02; 8:45 am]

BILLING CODE 3410-11-M